DEPARTMENT OF COMMERCE

National Oceanic and Atmospheric Administration

50 CFR Part 660

[I.D. 030303D]

Pacific Fishery Management Council; Notice of Intent

AGENCY: National Marine Fisheries Service (NMFS), National Oceanic and Atmospheric Administration (NOAA), Commerce.

ACTION: Notice of intent to prepare an environmental impact statement (EIS); request for written comments; notice of public scoping meetings.

SUMMARY: On April 16, 2002, NMFS and the Pacific Fishery Management Council (Council) announced their intent to prepare an EIS in accordance with the National Environmental Policy Act (NEPA) of 1969 for Amendment 16 to the Pacific Coast Groundfish Fishery Management Plan (FMP). The FMP would be amended to establish procedures for periodic review and revision of rebuilding plans and to incorporate rebuilding plans for overfished groundfish species. NMFS and the Council subsequently decided to prepare two (or more) separate analyses for these actions. Establishing procedures for reviewing and revising rebuilding plans is not anticipated to result in significant environmental impacts. Therefore, an environmental assessment (EA) will be prepared for those procedural actions, which will be implemented through Amendment 16 to the FMP. An EIS will then be prepared to evaluate the environmental impacts of implementing rebuilding plans for at least four of the nine species currently declared overfished by the Secretary of Commerce pursuant to the Magnuson-Stevens Fishery Conservation and Management Act (Magnuson-Stevens Act).

DATES: A public scoping meeting on the four rebuilding plans EIS is scheduled for Sunday, April 6, 2003, from 3 p.m.-5 p.m. in conjunction with the Council's April 7-11, 2003, meeting (see SUPPLEMENTARY INFORMATION) covering various rebuilding-plan-related issues. Written comments will be accepted no later than 5 p.m., local time on May 30, 2003. After this date, a scoping responsiveness summary document, summarizing the public's issues and alternatives to be evaluated in the EIS, will be drafted and made available on the Council's website (www.pcouncil.org) or by request from the address below. All parties present at the scoping meeting shall be mailed copies of the scoping responsiveness summary document once it is prepared.

ADDRESSES: Written comments on issues and alternatives for the four rebuilding plans EIS should be sent to Dr. Donald McIsaac, Pacific Fishery Management Council, 7700 NE Ambassador Place, Suite 200, Portland, OR 97220. Comments also may be sent via facsimile (fax) to 503-820-2299.

Council address: Pacific Fishery Management Council 7700 NE Ambassador Place, Suite 200, Portland, OR 97220-1384.

FOR FURTHER INFORMATION CONTACT: Mr. Matthew Harrington, NMFS, Northwest Region, 206-526-4742; fax: 206-526-6426 and email: matthew.harrington@noaa.gov, or Kit Dahl, Pacific Fishery Management Council, 503-820-8220 or 866-806-7204 (toll free); fax: 503-820-2299 and email: kit.dahl@noaa.gov.

SUPPLEMENTARY INFORMATION: NMFS and the Council published a notice of intent to prepare an EIS evaluating groundfish rebuilding plans in the Federal Register on April 16, 2002. (That document contains additional background information on the need for rebuilding plans.) At that time, NMFS and the Council planned to prepare a single EIS evaluating the effects of two sets of alternatives that might be adopted under a single amendment (Amendment 16) to the Groundfish FMP. The first set of alternatives would address the effects of different procedures that might be followed for revising rebuilding plans. As currently developed, these alternatives, or options, cover: (1) the form and content of rebuilding plans, (2) procedures for periodic review of rebuilding plans (as required by Section 304(e)(7) of the Magnuson-Stevens Act at 16 U.S.C. 1854(e)(7)), (3) standards for evaluating stock rebuilding processes, and (4) procedures that would be followed in the event that an overfished species is listed under the Endangered Species Act. These actions are procedural, establishing a framework for the adoption of rebuilding plans. As such, no significant direct or indirect environmental effects are anticipated. Environmental effects would result from the adoption of rebuilding measures subsequent to the implementation of this procedural framework. Therefore, after further consideration, NMFS and the Council have decided to evaluate these procedural options in a separate EA and confine the EIS analysis to the impacts of rebuilding-plan-related measures.

The EIS will now evaluate the environmental impacts stemming from adoption of rebuilding plans, and in particular, the management targets that will be used to determine harvest levels. These target parameters include the target rebuilding period, the fishing mortality management strategy (e.g., constant catch versus constant fishing mortality rate) and rates associated with the strategy, and levels of probability or risk that rebuilding targets will be achieved. Rebuilding plans for at least four overfished species will be evaluated, with darkblotched rockfish, Pacific ocean perch, lingcod, and canary rockfish the most likely species for which rebuilding plans would be evaluated in this EIS. The effects of adopting rebuilding measures for the remaining five overfished species (bocaccio rockfish, cowcod, whiting, widow rockfish, and yelloweye rockfish) will be evaluated in one or more subsequent EISs or EAs.

Scoping

Because of the change in approach described above, an additional public scoping meeting is scheduled for Sunday, April 6, 2003, from 3 p.m. to 5 p.m. This scoping session will coincide with the Council meeting and will occur at the same location, the Red Lion at The Quay Hotel, 100 Columbia St., Vancouver, WA 98660 (360-694-8341). Although the primary purpose of the scoping meeting shall be to obtain the public's comments and issues with regards to the four rebuilding plans EIS, issues related to the rebuilding plan adoption framework (subject of the EA) and rebuilding measures for all overfished species (not just those species that will be covered in the EIS noticed here) may be raised at this scoping meeting. These other comments will be used to formulate the scope of those particular NEPA documents. Likewise, comments raised on the four rebuilding plans EIS will be used to focus the analysis on the real issues and concerns of the public (40 CFR part 1500.5(d) and 40 CFR part 1501.7). Public comment also may be made during the April Council meeting, under the agendum wherein the Council plans to consider these proposed actions. The agenda for this meeting is available from the Council website or by request from Council offices (see ADDRESSES), once finalized.

Written comments on the scope of issues and alternatives may be submitted as described under ADDRESSES.

Special Accommodations

These meetings are physically accessible to people with disabilities. Requests for sign language interpretation or other auxiliary aids should be directed to Ms. Carolyn Porter at 820-2280 at least 5 days prior to the meeting date.

Authority: 16 U.S.C. 1801 et seq.

Dated: March 12, 2003.
Richard W. Surdi,
Acting Director, Office of Sustainable Fisheries, National Marine Fisheries Service.

[FR Doc. 03-6469 Filed 3-17-03; 8:45 am]

BILLING CODE 3510-22-S